NATIONAL SCIENCE FOUNDATION

Advisory Committee for Social, Behavioral & Economic Sciences; Notice of Meeting

In accordance with the Federal Advisory Committee Act (Pub. L. 92-463, as amended), the National Science Foundation (NSF) announces the following meeting:

Name and Committee Code: Advisory Committee for Social, Behavioral & Economic Sciences (#1171).

Date and Time: December 14, 2023—10 a.m.-4 p.m. (Eastern); December 15, 2023—10 a.m.-3 p.m. (Eastern).

Place: NSF, 2415 Eisenhower Avenue, Alexandria, VA 22314, NSF Room W 2210/W 2220 (In-Person). The meeting will be held in a hybrid format, with some Advisory Committee members participating in person and others participating virtually. For members of NSF and the external community, livestreaming and registration links will be available through the following page: https://www.nsf.gov/sbe/advisory.jsp.

Type of Meeting: Open.

Contact Persons: Garneski, John, National Science Foundation, 2415 Eisenhower Avenue, Alexandria, VA 22314; Telephone: (703) 292-4519.

Purpose of Meeting: To provide advice, recommendations and counsel on major goals and policies pertaining to scientific programs and activities.

Agenda: Welcome, Introductions, Approval of Previous Advisory Committee (AC) Meeting Summary, and Preview of Agenda

Directorate for Social, Behavioral, and Economic Sciences (SBE) Update

Discussion on SBE and Artificial Intelligence-related research

Technology, Innovation, and Partnerships and SBE

SBE activities aligned with NSF's “Creating Opportunities Everywhere” portfolio

Dated: November 9, 2023.
Crystal Robinson,
Committee Management Officer.

[FR Doc. 2023-25278 Filed 11-15-23; 8:45 am]

BILLING CODE 7555-01-P